INTERNATIONAL TRADE COMMISSION

[Investigation No. 337-TA-1310]

Notice of Commission Determination Not to Review an Initial Determination Terminating the Investigation Based on Settlement; Termination of the Investigation; Certain Interactive Fitness Products Including Stationary Exercise Bikes, Treadmills, Elliptical Machines, and Rowing Machines and Components Thereof

AGENCY: U.S. International Trade Commission.

ACTION: Notice.

SUMMARY: Notice is hereby given that the U.S. International Trade Commission (“Commission”) has determined not to review an initial determination (“ID”) (Order No. 8) of the presiding administrative law judge (“ALJ”) granting a joint motion to terminate the investigation in its entirety based on settlement. The investigation is terminated.

FOR FURTHER INFORMATION CONTACT: Robert Needham, Office of the General Counsel, U.S. International Trade Commission, 500 E Street, SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server (https://www.usitc.gov). Hearing-impaired persons are advised that information on this matter can be obtained by contacting the Commission's TDD terminal on (202) 205-1810.

SUPPLEMENTARY INFORMATION: On April 7, 2022, the Commission instituted this investigation based on a complaint filed on behalf of Peloton Interactive, Inc. of New York, New York (“Peloton”). 87 FR 20463 (Apr. 7, 2022). The complaint, as supplemented and amended, alleges a violation of 19 U.S.C. 1337 in the importation into the United States, the sale for importation, and the sale within the United States after importation of certain interactive fitness products including stationary exercise bikes, treadmills, elliptical machines, and rowing machines and components thereof by reason of infringement of certain claims of U.S. Patent Nos. 11,170,886; 7,938,755; 11,183,288; 11,145,399; and 10,864,406. Id. The notice of investigation names as respondents ICON Fitness Corp., IHF Holdings Inc., iFIT Inc. (FKA ICON Health & Fitness, Inc.), NordicTrack, Inc., and Free Motion Fitness, Inc., all of Logan, Utah (collectively, “Respondents”). Id. OUII is not participating in this investigation.

On May 20, 2022, Peloton and Respondents jointly moved to terminate the investigation in its entirety based on settlement. On June 23, 2022, the parties supplemented their motion. No responses opposing the motion were filed.

On June 23, 2022, the ALJ issued the subject ID pursuant to Commission Rule 210.21(b)(1) (19 CFR 210.21(b)(1)), granting the motion. The ID finds that no extraordinary circumstances prevent termination of the investigation. No party petitioned for review of the ID.

The Commission has determined not to review the subject ID. The investigation is hereby terminated in its entirety.

The Commission vote for this determination took place on July 25, 2022.

The authority for the Commission's determination is contained in section 337 of the Tariff Act of 1930, as amended (19 U.S.C. 1337), and in part 210 of the Commission's Rules of Practice and Procedure (19 CFR part 210).

By order of the Commission.
Issued: July 25, 2022.
Katherine Hiner,
Acting Secretary to the Commission.

[FR Doc. 2022-16224 Filed 7-27-22; 8:45 am]

BILLING CODE 7020-02-P